DEPARTMENT OF ENERGY

Federal Energy Regulatory Commission

Combined Notice of Filings

Take notice that the Commission has received the following Natural Gas Pipeline Rate and Refund Report filings:

Filings in Existing Proceedings

Docket Numbers: RP19-351-006.

Applicants: Tennessee Gas Pipeline Company, L.L.C.

Description: Compliance filing: 2022 Settlement Rates Docket No. RP19-351-006 to be effective 11/1/2022.

Filed Date: 9/9/22.

Accession Number: 20220909-5034.

Comment Date: 5 p.m. ET 9/21/22.

Docket Numbers: RP22-1065-001.

Applicants: Iroquois Gas Transmission System, L.P.

Description: Compliance filing: 9.9.22 Compliance Filing Implementing Approved 2022 Rate Settlement to be effective 10/1/2022.

Filed Date: 9/9/22.

Accession Number: 20220909-5008.

Comment Date: 5 p.m. ET 9/21/22.

Any person desiring to protest in any the above proceedings must file in accordance with Rule 211 of the Commission's Regulations (18 CFR 385.211) on or before 5:00 p.m. Eastern time on the specified comment date.

Filings Instituting Proceedings

Docket Numbers: PR22-62-000.

Applicants: The East Ohio Gas Company.

Description: § 284.123 Rate Filing: Operating Statement of The East Ohio Gas Company 9/1/22 to be effective 9/1/2022.

Filed Date: 9/8/22.

Accession Number: 20220908-5068.

Comment Date: 5 p.m. ET 9/29/22.

Docket Numbers: RP22-1207-000.

Applicants: Eastern Gas Transmission and Storage, Inc.

Description: § 4(d) Rate Filing: EGTS—September 9, 2022 Negotiated Rate and Nonconforming Service Agreement to be effective 10/11/2022.

Filed Date: 9/9/22.

Accession Number: 20220909-5013.

Comment Date: 5 p.m. ET 9/21/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at:

http://www.ferc.gov/docs-filing/efiling/filing-req.pdf. For other information, call (866) 208-3676 (toll free). For TTY, call (202) 502-8659.

Dated: September 9, 2022.
Debbie-Anne A. Reese,
Deputy Secretary.

[FR Doc. 2022-19969 Filed 9-14-22; 8:45 am]

BILLING CODE 6717-01-P